DEPARTMENT OF TRANSPORTATION

Research and Special Programs Administration

[Docket 98-4957 Notice 22]

Extension of Existing Information Collection: Comment Request

AGENCY: Research and Special Programs Administration (RSPA), DOT.

ACTION: Notice and request for public comments.

SUMMARY: This notice requests public participation in the Office of Management and Budget (OMB) approval process for extension of an existing RSPA collection of information. RSPA intends to request OMB approval of information collection 2137-0596, National Pipeline Mapping System (NPMS) under the Paperwork Reduction Act of 1995 and 5 CFR Part 1320.

DATES: Comments on this notice must be received on or before November 6, 2000 to be assured of consideration.

ADDRESSES: Interested persons are invited to send comments in duplicate to the Dockets Facility, U.S. Department of Transportation, 400 Seventh St., SW., Washington, DC 20590-0001 or e-mail to http://dms.dot.gov. Please identify the docket and notice numbers shown in the heading of this notice.

FOR FURTHER INFORMATION CONTACT: Marvin Fell, (202) 366-6205, to ask questions about this notice, or write by e-mail to marvin.fell@rspa.dot.gov.

SUPPLEMENTARY INFORMATION: Title: National Pipeline Mapping System.

Type of Request: Extension of existing information collection.

Abstract: RSPA's Office of Pipeline Safety (OPS), along with state agencies, have been working with natural gas and hazardous liquid pipeline operators to develop NPMS. When complete, NPMS will depict and provide data on all natural gas transmission and hazardous liquid pipeline systems operating in the United States. OPS is extending its volunteer pilot program to all regulated transmission operators. OPS will be compensating the states and regional repositories for their startup and operating costs.

Estimate of Burden: 20 hours per operator.

Respondents: Gas transmission and hazardous liquid operators.

Estimated Number of Respondents: 1350.

Estimated Number of Responses per Respondent: 1.

Estimated Total Annual Burden on Respondents: 27,000 hours.

This document can be reviewed between 10 a.m.-5 p.m. Monday through Friday, except Federal holidays, at the Dockets Facility, U.S. Department of Transportation, Room PL-401, 400 Seventh St., SW., Washington, DC 20590.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

All timely written comments to this notice will be summarized and included in the request for OMB approval. Comments will be available to the public in the docket.

Issued in Washington, DC on August 31, 2000.
Stacey L. Gerard,
Associate Administrator for Pipeline Safety.

[FR Doc. 00-22848 Filed 9-6-00; 8:45 am]

BILLING CODE 4910-60-P